DEPARTMENT OF HEALTH AND HUMAN SERVICES

Administration for Children and Families

Submission for OMB Review: Title V State Sexual Risk Avoidance Education (SRAE) Program (New Collection)

AGENCY: The Administration on Children, Youth and Families (ACYF), Administration for Children and Families (ACF), HHS.

ACTION: Request for public comment.

SUMMARY: The Administration on Children, Youth and Families (ACYF), Family and Youth Services Bureau (FYSB) is accepting mandatory formula grant applications and State Plans from states and territories for the development of and implementation for Title V State Sexual Risk Avoidance Education (SRAE) Program. The Title V State SRAE Funding Opportunity Announcement sets forth the application requirements for the receipt of the following documents from applicants and awardees: Application, State Plan, and Performance Progress Report.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: This Notice is to solicit comments from the public on ACYF's proposed information collection documents (application, State Plan, and Performance Progress Report).

Purpose and Use of the Information Collections:

The application and State Plan will offer information about the proposed state project and it will be used as the primary basis to determine whether or not the project meets the minimum requirements for the award.

The Performance Progress Report will inform the monitoring of the grantees program design, program evaluation, management improvement, service quality, and compliance with agreed upon goals. ACYF/FYSB will use the information to assure effective service delivery. Finally, the data from this collection will be used to report outcomes and efficiencies and will provide valuable information to policy makers and key stakeholders in the development of program and research efforts.

Respondents: Fifty states and nine territories, to include the District of Columbia, Puerto Rico, Virgin Islands, Guam, American Samoa, Northern Mariana Islands, the Federated States of Micronesia, the Marshall Islands, and Palau.

Annual Burden Estimates
Information collection title | Total number of respondents | Total number of responses per respondent | Average burden hours per response | Total burden hours | Annual burden hours
Application | 59 | 1 | 24 | 1,416 | 472
State Plan | 59 | 3 | 40 | 7,080 | 2,360
Performance Progress Report | 59 | 6 | 16 | 5,664 | 1,888

Estimated Annual Burden Total: 4,702.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 510 (42 U.S.C. 710), as amended by Section 50502 (Pub. L. 115-123).

Mary B. Jones,
ACF/OPRE Certifying Officer.

[FR Doc. 2020-11628 Filed 5-29-20; 8:45 am]

BILLING CODE 4184-83-P